FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 10, 2014.

A. Federal Reserve Bank of Chicago (Colette A. Fried, Assistant Vice President) 230 South LaSalle Street, Chicago, Illinois 60690-1414:

1. Natalie K. Marantz, individually and as trustee of the Natalie K. Marantz Revocable Trust; together with Tom Marantz, as trustee of the following trusts: Tom E. Marantz Revocable Trust; the Jack A. Marantz Non-Exempt Marital Trust; the Jack A. Marantz Exempt Marital Trust; and the Marla Marantz Trust; Jason Knoedler, and certain minor Knoedler children; Natalie Marantz and Jason Knoedler, as the general partners of Marantz Investments, L.P.; Melissa Knoedler, as trustee of the Melissa Knoedler Irrevocable Trust, Gregory Marantz, as trustee of the Gregory Marantz Irrevocable Trust, and Jennifer Marantz, as trustee of the Jennifer Marantz Irrevocable Trust, as limited partners of Marantz Investments, L.P, as a group acting in concert, as members of the Marantz Family Control group; to retain voting shares of Spring Bancorp, Inc., and thereby indirectly retain voting shares of Bank of Springfield, both in Springfield, Illinois.

Board of Governors of the Federal Reserve System, August 21, 2014.
Michael J. Lewandowski,
Associate Secretary of the Board.

[FR Doc. 2014-20306 Filed 8-26-14; 8:45 am]

BILLING CODE 6210-01-P